DEPARTMENT OF AGRICULTURE

Food Safety and Inspection Service

9 CFR Part 381

[Docket No. 04-036F]

RIN 0583-AD13

Termination of Designation of the State of North Dakota With Respect to the Inspection of Poultry Products

AGENCY: Food Safety and Inspection Service, USDA.

ACTION: Final rule.

SUMMARY: The Food Safety and Inspection Service (FSIS) is amending the poultry products inspection regulations by terminating the designation of the State of North Dakota under sections 1 through 4, 6 through 10, 11(b), 11(c), and 12 through 22 of the Poultry Products Inspection Act (PPIA). FSIS has concluded that North Dakota is in a position to administer a State poultry inspection program, which is at least equal to the Federal poultry products inspection program.

DATES: Effective on June 17, 2005.

FOR FURTHER INFORMATION CONTACT: Royce E. Sperry, Deputy Director; Review Staff; Office of Program Evaluation, Enforcement and Review, FSIS, USDA, telephone (402) 221-7401, extension 7484.

SUPPLEMENTARY INFORMATION:

Background

Section 5(c)(1) of the PPIA (21 U.S.C. 454(c)) authorizes the Secretary of Agriculture to designate a State as one in which the provisions of sections 1 through 4, 6 through 10, 11(b), 11(c), and 12 through 22 of the PPIA will apply to operations and transactions wholly within the State if the Secretary has determined that requirements at least equal to those imposed under the Act have not been developed and effectively enforced by the State.

The Secretary of Agriculture designated the State of North Dakota under paragraph 5(c)(1) of the PPIA, effective January 2, 1971 (42 FR 2949). The designation specified that North Dakota is a State in which the United States Department of Agriculture is responsible for providing poultry products inspection at eligible establishments and for otherwise enforcing the applicable provisions of the PPIA.

In addition, on July 23, 1973, a notice was published in the Federal Register (38 FR 19671) announcing that, effective on that date, the Department would assume the responsibility of administering the authorities provided for under sections 11(b) and (c) (21 U.S.C. 460(b) and (c) of the PPIA regarding certain categories of processors of poultry products.

This designation was undertaken by the Department when USDA determined that the State of North Dakota was not in a position to enforce inspection requirements under State laws for poultry and poultry products in intrastate commerce that were at least equal to the requirements of the PPIA enforced by the Federal Government.

Section 5(c)(3) of the PPIA provides that whenever the Secretary of Agriculture determines that any designated State has developed and will enforce State poultry products inspection requirements that are at least equal to those imposed by the Federal Government under the PPIA, with respect to operations and transactions within the State, the Secretary will terminate the designation of the State. The Secretary has determined that the State of North Dakota has developed and will enforce a State poultry products inspection program in accordance with the provisions of the PPIA. FSIS has evaluated the North Dakota program and determined that it is at least equal to the Federal Government requirements. This evaluation also has shown that the State of North Dakota is in a position to enforce effectively the provisions of section 11(b) and (c) of the PPIA. Therefore, the designation of the State of North Dakota under sections 1 through 4, 6 through 10, 11(b), 11(c), and 12 through 22 of the PPIA is terminated.

FSIS published a proposed rule on March 14, 2005 (70 FR 12420). The public comment period ended on April 13, 2005. No comments were received.

Executive Order 12866 and Regulatory Flexibility Act

This proposed rule has been reviewed under Executive Order 12866. It has been determined to be not significant, and has not been reviewed by the Office of Management and Budget (OMB).

Executive Order 12988

This proposed rule has been reviewed under Executive Order 12988, Civil Justice Reform. This rule: (1) Preempts State and local laws and regulations that are inconsistent with this rule; (2) has no retroactive effect; and (3) does not require administrative proceedings before parties may file suit in court proceedings challenging this rule. However, the administrative procedures specified in 9 CFR 306.5 must be exhausted before any judicial challenge of the application of the provisions of this proposed rule, if the challenge involves any decision of an FSIS employee relating to inspection services provided under the Additional Public Notification.

Public awareness of all segments of rulemaking and policy development is important. Consequently, in an effort to ensure that the public and in particular minorities, women, and persons with disabilities, are aware of this final rule, FSIS will announce it online through the FSIS Web page located at http://www.fsis.usda.gov/regulations_&_policies/2005_Interim_&_Final_Rules_Index/index.asp.

The Regulations.gov Web site is the central online rulemaking portal of the United States Government. It is being offered as a public service to increase participation in the Federal Government's regulatory activities. FSIS participates in Regulation.gov and will accept comments on documents published on the site. The site allows visitors to search by keyword or Department of Agency for rulemakings that allow for public comment. Each entry provides a quick link to a comment form so that visitors can type in their comments and submit them to FSIS. The Web site is located at http://www.regulations.gov/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an electronic mail subscription service that provides an automatic and customized notification when popular pages are updated, including Federal Register publications and related documents. This service is available at http://www.fsis.usda.gov/news_and_events/email_subscription/ and allows FSIS customers to sign up for subscription options in eight categories. Options range from recalls to export information to regulations, directives, and notices. Customers can add or delete subscriptions themselves and have the option to password protect their accounts.

List of Subjects in 9 CFR Part 381

Poultry and poultry products.

For the reasons discussed in the preamble, FSIS is proposing to amend 9 CFR Chapter III as follows:

PART 381—POULTRY PRODUCTS INSPECTION REGULATIONS

1. The authority citation for part 381 continues to read as follows:

Authority: 7 U.S.C. 138f; 7 U.S.C. 450; 21 U.S.C. 451-470; 7 CFR 2.17, 2.55.

§ 381.221 [Amended]

2. Section 381.221 is amended by removing from the table the entry for “North Dakota.”

§ 381.224 [Amended]

3. Section 381.224 is amended by removing from the table the two entries for “North Dakota.”

Done at Washington, DC, on June 7, 2005.
Barbara J. Masters,
Acting Administrator.

[FR Doc. 05-12009 Filed 6-16-05; 8:45 am]

BILLING CODE 3410-DM-P